DEPARTMENT OF ENERGY

Federal Energy Regulatory Commission

[Docket No. CP11-15-000]

Columbia Gas Transmission, LLC; Notice of Request Under Blanket Authorization

November 8, 2010.

Take notice that on October 26, 2010, Columbia Gas Transmission, LLC (Columbia) 5151 San Felipe, Suite 2500, Houston, Texas 77056, filed in Docket No. CP11-15-000, an application pursuant to sections 157.205 and 157.210 of the Commission's Regulations under the Natural Gas Act (NGA) as amended, to construct certain natural gas facilities in Lincoln County, West Virginia, under Columbia's blanket certificate issued in Docket No. CP83-76-000, ¹ all as more fully set forth in the application which is on file with the Commission and open to the public for inspection.

¹ 22 FERC ¶ 62,029 (1983).

Columbia proposes to construct approximately 1.1 miles of 16-inch diameter pipeline and appurtenances as a parallel loop to Columbia's Line SM-116 in Lincoln County. Columbia states that the new pipeline would be constructed beginning at a point approximately 1.1 miles south of the Hamlin compressor station and tie in with Line SM-116 at the suction side of the Hamlin compressor station. Columbia estimates that the proposed new pipeline and appurtenances would cost $3,900,000 to construct and would create an additional 38,535 dekatherms per day of capacity.

Any questions concerning this application may be directed to Fredric J. George, Senior Counsel, Columbia Gas Transmission, LLC, P.O. Box 1273, Charleston, West Virginia 25325-1273 or via telephone at (304) 357-2359 or by facsimile (304) 357-3206.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. 2010-28902 Filed 11-16-10; 8:45 am]

BILLING CODE 6717-01-P